DEPARTMENT OF AGRICULTURE

Commodity Credit Corporation

7 CFR Part 1430

RIN 0560-AH56

2005 Dairy Disaster Assistance Payment Program

AGENCY: Commodity Credit Corporation, USDA.

ACTION: Final rule; correction.

SUMMARY: This document corrects a change made by a final rule published October 31, 2006 amending the regulations for the 2005 Dairy Disaster Assistance Payment Program (DDAP-II). A correction is needed because the final rule of October 31 incorrectly numbered the sections of the new subpart E that was added to 7 CFR part 1430.

DATES: Effective Date: October 31, 2006.

FOR FURTHER INFORMATION CONTACT: Tom Witzig, Regulatory Review Group, Economic and Policy Analysis Staff, Farm Service Agency (FSA), United States Department of Agriculture (USDA), Stop 0572, 1400 Independence Ave., SW., Washington, DC 20250-0572. Telephone: (202) 205-5851; e-mail: Tom.Witzig@wdc.usda.gov. Persons with disabilities who require alternative means for communication (Braille, large print, audio tape, etc.) should contact the USDA Target Center at (202) 720-2600 (voice and TDD).

SUPPLEMENTARY INFORMATION:

Background

This rule corrects the final rule published in the Federal Register on October 31, 2006 (71 FR 63668) that amended the regulations governing the 2005 Dairy Disaster Assistance Payment Program (DDAP-II) of the Commodity Credit Corporation (CCC). The final rule added a new subpart E, 2005 Dairy Disaster Assistance Program (DDAP-II). The sections of the new subpart were erroneously numbered as §§ 1430.300 through 1430.315. This document corrects the section numbers to be sections 1430.600 through 1430.615.

List of Subjects in 7 CFR Part 1430

Dairy, Disaster assistance, Reporting and recordkeeping requirements.

Accordingly, for this reason, 7 CFR part 1430 is amended as follows:

PART 1430—DAIRY PRODUCTS

1. The authority citation for part 1430 continues to read as follows:

Authority: 7 U.S.C. 7981 and 7982; 15 U.S.C. 714b and 714c; Sec. 3014 of Pub. L. 109-234, 16 U.S.C. 3801 note, 120 Stat. 474.

2. In subpart E, re-designate §§ 1430.300 through 1430.314 as §§ 1430.600 through 1430.614, respectively.

§ 1430.602 [Amended]

3. In newly designated § 1430.602, in the definition of base month, revise the reference for “§ 1430.304” to read “§ 1430.604”.

§ 1430.603 [Amended]

4. In newly designated § 1430.603(b), revise the reference for “§ 1430.302” to read “§ 1460.602”.

§ 1430.605 [Amended]

5. In newly designated § 1430.605(a), revise the reference for “§ 1430.306 to read “§ 1430.606”.

§ 1430.606 [Amended]

6. In newly designated § 1430.606:

A. In paragraph (a), revise the references to “§ 1430.302”, “1430.304(g)” (two places), and “§ 1430.305” to read “§ 1430.602”, “§ 1430.604(g)”, and “§ 1430.605”, respectively;

B. In paragraph (d), revise the reference to “§ 1430.305” to read “§ 1430.605”;

C. In paragraph (e)(2), revise the reference to “§ 1430.305” to read “§ 1430.605”; and

D. In paragraph (g), revise the reference to “§ 1420.305” to read “§ 1430.605”;

§ 1430.607 [Amended]

7. In newly designated § 1430.607:

A. In paragraph (a) introductory text, revise the reference to “§ 1430.306” to read “§ 1430.606”; and

B. In paragraph (c), revise the reference to “§ 1430.306” to read “§ 1430.606”.

§ 1430.609 [Amended]

8. In newly designated § 1430.609, revise the references to “§ 1430.307” and “§ 1430.308” to read “§ 1430.607” and “§ 1430.608”, respectively.

Signed in Washington, DC, on November 2, 2006.
Teresa C. Lasseter,
Executive Vice President, Commodity Credit Corporation.

[FR Doc. E6-18800 Filed 11-8-06; 8:45 am]

BILLING CODE 3410-05-P